OFFICE OF MANAGEMENT AND BUDGET

48 CFR Ch. 99

2 CFR Chs. 1 and 2

Federal Regulations, Guidance, OFPP Policy Letters, and CASB Cost Accounting Standards Included in the Semiannual Agenda of Federal Activities

AGENCY: Office of Management and Budget.

ACTION: Semiannual regulatory agenda.

SUMMARY: The Office of Management and Budget (OMB) is publishing its semiannual agenda of upcoming activities for Federal regulations, OMB Guidance, Office of Federal Procurement Policy (OFPP) Policy Letters, and Cost Accounting Standards (CAS) Board Cost Accounting Standards.

OMB Guidance and OFPP Policy Letters are published in accordance with OMB's internal procedures for implementing Executive Order 12866 (October 4, 1993, 58 FR 51735). OMB policy guidelines are issued under authority derived from several sources, including: Subtitles I, II, and V of title 31, United States Code; Executive Order 11541; and other specific authority as cited. OMB Guidance and OFPP Policy Letters communicate guidance and instructions of a continuing nature to executive branch agencies. As such, most OMB Guidance and OFPP Policy Letters are not regulations. Nonetheless, because these issuances are typically of interest to the public, they are generally published in the Federal Register at both the proposed (for public comment) and final stages. For this reason, they are presented below in the standard format of “pre-rule,” “proposed rule,” and “final rule” stages.

CASB Cost Accounting Standards are issued under authority derived from 41 U.S.C. 1501 et. seq. Cost Accounting Standards are rules governing the measurement, assignment, and allocation of costs to contracts entered into with the United States Government.

For purposes of this agenda, we have excluded directives that outline procedures to be followed in connection with the President's budget and legislative programs, as well as directives that affect only the internal functions, management, or personnel of Federal agencies.

FOR FURTHER INFORMATION CONTACT: See the agency contact person listed for each entry in the agenda, c/o Office of Management and Budget, Washington, DC 20503. On the overall agenda, contact Lindsay Fraser, (202) 395-8084, at the above address.

Tim Soltis,
Deputy Controller, Office of Federal Financial Management.

Office of Management and Budget—Final Rule Stage
Sequence No. | Title | Regulation Identifier No.
209 | Federal Acquisition Security Council Implementing Regulation | 0348-AB83

OFFICE OF MANAGEMENT AND BUDGET (OMB)

Final Rule Stage

209. Federal Acquisition Security Council Implementing Regulation

E.O. 13771 Designation: Other.

Legal Authority: Pub. L. 115-390 sec. 202(c)

Abstract: This interim final rule will implement subchapter III of chapter 13 of title 41, United States Code. Subchapter III creates the Federal Acquisition Security Council, and identifies a number of functions to be performed by the Council. The FASC is chaired by a designated OMB Senior-Level official, and Public Law 115-390 requires that the FASC publish an interim final rule to implement these functions.

Timetable:

Action | Date | FR Cite
Final Action | 06/00/20

Regulatory Flexibility Analysis Required: Yes.

Agency Contact: Amy Hamilton, Office of Management and Budget, Phone: 202 395-0372.

RIN: 0348-AB83

[FR Doc. 2020-16756 Filed 8-25-20; 8:45 am]

BILLING CODE 3110-01-P